DEPARTMENT OF ENERGY

10 CFR Parts 429 and 430

[Docket No. EERE-2012-BT-TP-0046]

RIN 1904-AC52

Energy Conservation Program: Test Procedure for Set-Top Boxes

AGENCY: Office of Energy Efficiency and Renewable Energy, Department of Energy.

ACTION: Proposed rule; withdrawal.

SUMMARY: The U.S. Department of Energy (DOE) withdraws a proposed rule published January 23, 2013 to establish a test procedure to measure the energy consumption of set-top boxes (STBs). DOE is taking this action in light of a consensus agreement entered by a broadly representative group that DOE believes has the potential to achieve significant energy savings in STBs.

DATES: The proposed rule is withdrawn December 31, 2013.

FOR FURTHER INFORMATION CONTACT:

Mr. Jeremy Dommu, U.S. Department of Energy, Office of Energy Efficiency and Renewable Energy, Building Technologies Program, EE-2J, 1000 Independence Avenue SW., Washington, DC 20585-0121. Telephone: (202) 586-9870. Email: Jeremy.Dommu@ee.doe.gov.

Ms. Celia Sher, U.S. Department of Energy, Office of the General Counsel, GC-71, 1000 Independence Avenue SW., Washington, DC 20585-0121. Telephone: (202) 287-6122. Email: Celia.Sher@hq.doe.gov.

SUPPLEMENTARY INFORMATION:

I. Authority

Title III of the Energy Policy and Conservation Act (42 U.S.C. 6291, et seq.; “EPCA”) sets forth a variety of provisions designed to improve energy efficiency. (All references to EPCA refer to the statute as amended through the American Energy Manufacturing Technical Corrections Act (AEMTCA), Pub. L. 112-210 (Dec. 18, 2012)). Part A of Title III of EPCA (42 U.S.C. 6291-6309) established the “Energy Conservation Program for Consumer Products Other Than Automobiles,” which covers consumer products and certain commercial products (hereafter referred to as “covered products”).¹ In addition to specifying a list of covered residential and commercial products, EPCA contains provisions that enable the Secretary of Energy to classify additional types of consumer products as covered products. (42 U.S.C. 6292(a)(20)) DOE may prescribe test procedures for any product it classifies as a “covered product.” (42 U.S.C. 6293(b))

¹ For editorial reasons, upon codification in the U.S. code, Part B was re-designated Part A.

II. Background

On June 15, 2011, DOE published a notice of proposed determination that tentatively determined that STBs and network equipment qualify as a covered product. 76 FR at 34914. Subsequently, DOE initiated the rulemaking process to establish a test procedure for STBs. First, DOE issued a request for information document on December 16, 2011, requesting stakeholders to provide technical information regarding various test procedures used by industry to measure the energy consumption of STBs and network equipment. 76 FR at 78174. DOE then published a notice of proposed rulemaking (NOPR) on January 23, 2013 to establish a new test procedure focused exclusively on STBs. 78 FR 5076. DOE held a public meeting and requested stakeholder comments on all aspects of the NOPR.

III. Discussion

In September, 2013 a broadly representative group of Pay-TV, consumer electronics industries and energy advocates announced a Voluntary Agreement for Ongoing Improvement to the Energy Efficiency of Set-Top Boxes (Agreement).² The Agreement established a five-year written commitment to continue improvements in the energy efficiency of STBs used in the distribution of digital video signals. Under the terms of the Agreement, it is predicted that consumers will realize significant annual residential electricity savings. DOE encourages the development of market-based solutions, such as the Agreement, that are a result of a consensus among and including all relevant parties. DOE also recognizes that there are multiple paths forward to ensure that the maximum economic benefits and energy savings occur through increasing the efficiency of STBs. DOE believes that the Agreement has the potential to achieve significant energy savings in STBs. Thus, in light of the newly adopted Agreement, DOE withdraws its proposed test procedure for STBs. DOE notes that it will continue to monitor the STB market closely and would consider reinitiating the rulemaking if it was found that the energy efficiency gains for STBs and consumer savings envisioned in the Agreement were not being realized.

² http://www.ncta.com/energyagreement.

By separate action published elsewhere in today's Federal Register, DOE is withdrawing its proposed rule to determine STBs as a covered product.

IV. Approval of the Office of the Secretary

The Secretary of Energy has approved publication of this withdrawal.

List of Subjects

10 CFR Part 429

Confidential business information, Energy conservation, Household appliances, Imports, Reporting and recordkeeping requirements.

10 CFR Part 430

Administrative practice and procedure, Confidential business information, Energy conservation, Household appliances, Imports, Incorporation by reference, Intergovernmental relations, Small businesses.

Issued in Washington, DC, on December 20, 2013.
Kathleen B. Hogan,
Deputy Assistant Secretary of Energy Efficiency, Energy Efficiency and Renewable Energy.

[FR Doc. 2013-31264 Filed 12-30-13; 8:45 am]

BILLING CODE 6450-01-P